DEPARTMENT OF ENERGY

Federal Energy Regulatory Commission

Combined Notice of Filings # 1

February 25, 2008.

Take notice that the Commission received the following electric corporate filings:

Docket Numbers: EC06-78-002; EC07-37-002.

Applicants: Entegra Power Group LLC, Gila River Power, L.P., Union Power Partners, L.P., EPG LLC, Entegra TC LLC.

Description: Application for order extending blanket authorizations and amending reporting requirements for certain future transfers and acquisitions of equity interests etc re Entrega Power Group LLC et al.

Filed Date: 02/12/2008.

Accession Number: 20080221-0041.

Comment Date: 5 p.m. Eastern Time on Tuesday, March 04, 2008.

Docket Numbers: EC08-42-000.

Applicants: Puget Sound Energy, Inc.

Description: Application for authorization to acquire an existing generation facility re Puget Sound Energy Inc.

Filed Date: 02/07/2008.

Accession Number: 20080212-0108.

Comment Date: 5 p.m. Eastern Time on Thursday, February 28, 2008.

Take notice that the Commission received the following exempt wholesale generator filings:

Docket Numbers: EG08-39-000.

Applicants: Providence Heights Wind, LLC.

Description: Notice of Self-Certification of Exempt Wholesale Generator Status of Providence Heights Wind, LLC.

Filed Date: 02/20/2008.

Accession Number: 20080220-5030.

Comment Date: 5 p.m. Eastern Time on Wednesday, March 12, 2008.

Docket Numbers: EG08-40-000.

Applicants: Ocotillo Windpower, LP.

Description: Notice of Self-Certification of Ocotillo Windpower, LP as an Exempt Wholesale Generator.

Filed Date: 02/21/2008.

Accession Number: 20080221-5024.

Comment Date: 5 p.m. Eastern Time on Thursday, March 13, 2008.

Docket Numbers: EG08-41-000.

Applicants: Goat Wind, LP.

Description: Notice of Self-Certification of Exempt Wholesale Generator Status of Goat Wind, LP.

Filed Date: 02/21/2008.

Accession Number: 20080221-5038.

Comment Date: 5 p.m. Eastern Time on Thursday, March 13, 2008.

Take notice that the Commission received the following electric rate filings:

Docket Numbers: ER08-389-001.

Applicants: San Diego Gas & Electric Company.

Description: Waiver of 30 day notice period in SDG&E's Transmission Owner Tariff.

Filed Date: 02/25/2008.

Accession Number: 20080225-5028.

Comment Date: 5 p.m. Eastern Time on Monday, March 17, 2008.

Docket Numbers: ER08-582-000.

Applicants: PJM Interconnection, LLC.

Description: PJM Interconnection LLC submits a notice of cancellation of an interconnection service agreement for an interconnection project that has been withdrawn from the PJM generation interconnection queue.

Filed Date: 02/20/2008.

Accession Number: 20080222-0113.

Comment Date: 5 p.m. Eastern Time on Wednesday, March 12, 2008.

Docket Numbers: ER08-583-000.

Applicants: American Electric Power Service Corp.

Description: AEP Operating Companies requests acceptance of the Second Revised Interconnection and Local Delivery Service Agreement with the City of Olive Hill, KT et al.

Filed Date: 02/20/2008.

Accession Number: 20080222-0114.

Comment Date: 5 p.m. Eastern Time on Wednesday, March 12, 2008.

Docket Numbers: ER08-584-000; ER02-298-004.

Applicants: Thompson River Co-Gen, LLC.

Description: Thompson River Power LLC informs the Commission that it has succeeded to the market-based rate tariff of Thompson River Co-Gen, LLC and submits non-material change in status etc.

Filed Date: 02/21/2008.

Accession Number: 20080225-0187.

Comment Date: 5 p.m. Eastern Time on Thursday, March 13, 2008.

Docket Numbers: ER08-585-000.

Applicants: California Independent System Operator Corporation.

Description: California Independent System Operator Corporation submits revisions to it Grid Management Charge rate formula.

Filed Date: 02/20/2008.

Accession Number: 20080225-0087.

Comment Date: 5 p.m. Eastern Time on Wednesday, March 12, 2008.

Docket Numbers: ER08-586-000.

Applicants: Consolidated Edison Company of New York.

Description: Consolidated Edison Company of New York Inc submits a Revised and Restated Interconnection Agreement by and between Con Edison, KIAC Partners and the Port Authority of New York and New Jersy, dated as of 1/7/08.

Filed Date: 02/21/2008.

Accession Number: 20080225-0058.

Comment Date: 5 p.m. Eastern Time on Thursday, March 13, 2008.

Docket Numbers: ER08-587-000.

Applicants: Northeast Utilities Service Company.

Description: Connecticut Light and Power Company submits executed Preliminary Design Services Agreement, Schedule 22 of its Transmission, Markets and Services Tariff FERC Electric 3.

Filed Date: 02/21/2008.

Accession Number: 20080222-0152.

Comment Date: 5 p.m. Eastern Time on Thursday, March 13, 2008.

Docket Numbers: ER08-588-000.

Applicants: Northeast Utilities Service Company.

Description: The Connecticut Light and Power Company submits the executed Design, Engineering, & Permitting Agreement with Waterbury Generation, LLC.

Filed Date: 02/21/2008.

Accession Number: 20080222-0153.

Comment Date: 5 p.m. Eastern Time on Thursday, March 13, 2008.

Docket Numbers: ER08-589-000.

Applicants: Midwest Generation Energy Services, LLC.

Description: Notice of Succession of Midwest Generation Energy Services, LLC informing of name change to Edison Mission Solutions, LLC effective 1/24/08.

Filed Date: 02/22/2008.

Accession Number: 20080222-5055.

Comment Date: 5 p.m. Eastern Time on Friday, March 14, 2008.

Take notice that the Commission received the following electric reliability filings:

Docket Numbers: RR07-16-002.

Applicants: North American Electric Reliability Corp.

Description: Request of North American Electric Reliability Corporation for Approval of Amendment to 2008.

Filed Date: 02/15/2008.

Accession Number: 20080215-5036.

Comment Date: 5 p.m. Eastern Time on Monday, March 17, 2008.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-3983 Filed 2-29-08; 8:45 am]

BILLING CODE 6717-01-P